FEDERAL COMMUNICATIONS COMMISSION

47 CFR Part 73

[DA 02-2366, MB Docket No. 02-132, RM-10374]

Digital Television Broadcast Service; Montgomery, AL

AGENCY: Federal Communications Commission.

ACTION: Final rule.

SUMMARY: The Commission, at the request of Alabama Educational Television Commission and LibCo, Inc., substitutes DTV channel *27 for DTV channel *14; and DTV channel 14 for DTV channel 57 at Montgomery, Alabama. See 67 FR 38924, June 6, 2002. DTV channels *27 and 14 can be allotted to Montgomery, Alabama, for stations WAIQ-DT and WSFA-DT, respectively, in compliance with the principle community coverage requirements of Section 73.625(a). DTV channel *27 can be allotted at coordinates 32-22-55 N. and 86-17-33 W. with a power of 750, HAAT of 183 meters and with a DTV service population of 522 thousand. DTV channel 14 can be allotted at coordinates 31-58-28 N. and 86-09-44 W. with a power of 600, HAAT of 530 meters and with a DTV service population of 714 thousand. With this action, this proceeding is terminated.

DATES: Effective November 12, 2002.

FOR FURTHER INFORMATION CONTACT: Pam Blumenthal, Media Bureau, (202) 418-1600.

SUPPLEMENTARY INFORMATION: This is a synopsis of the Commission's Report and Order, MB Docket No. 02-132, adopted September 23, 2002, and released September 27, 2002. The full text of this document is available for public inspection and copying during regular business hours in the FCC Reference Information Center, Portals II, 445 12th Street, SW., Room CY-A257, Washington, DC. This document may also be purchased from the Commission's duplicating contractor, Qualex International, Portals II, 445 12th Street, SW, CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Alabama, is amended by removing DTV channel *14 and adding DTV channel *27 at Montgomery.

3. Section 73.622(b), the Table of Digital Television Allotments under Alabama, is amended by removing DTV channel 57 and adding DTV channel 14 at Montgomery.

Federal Communications Commission.
Barbara A. Kreisman,
Chief, Video Division, Media Bureau.

[FR Doc. 02-25352 Filed 10-4-02; 8:45 am]

BILLING CODE 6712-01-P